FEDERAL COMMUNICATIONS COMMISSION

47 CFR Part 73

[DA 03-1097, MB Docket No. 02-155, RM-10452]

Digital Television Broadcast Service and Television Broadcast Service; Charleston, WV

AGENCY: Federal Communications Commission.

ACTION: Final rule.

SUMMARY: The Commission, at the request of Pappas Telecasting of America, substitutes DTV channel 52 for channel 23. See 67 FR 44791, July 5, 2002. DTV channel 52 can be allotted to Charleston, West Virginia, in compliance with the principal community coverage requirements of Section 73.625(a) at coordinates 38-30-21 N and 82-12-33 W. Since the community of Charleston is located within 400 kilometers of the U.S.-Canadian border, concurrence from the Canadian Government has been obtained for this allotment. With this action, this proceeding is terminated.

DATES: Effective June 2, 2003.

FOR FURTHER INFORMATION CONTACT: Pam Blumenthal, Media Bureau, (202) 418-1600.

SUPPLEMENTARY INFORMATION: This is a synopsis of the Commission's Report and Order, MB Docket No. 02-155, adopted April 4, 2003, and released April 17, 2003. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under West Virginia, is amended by removing TV channel 23 at Charleston.

3. Section 73.622(b), the Table of Digital Television Allotments under West Virginia, is amended by adding DTV channel 52 at Charleston.

Federal Communications Commission.
Barbara A. Kreisman,
Chief, Video Division, Media Bureau.

[FR Doc. 03-10190 Filed 4-23-03; 8:45 am]

BILLING CODE 6712-01-P